DEPARTMENT OF COMMERCE

International Trade Administration

[A-588-853]

Notice of Final Determination of Sales at Less Than Fair Value: Circular Seamless Stainless Steel Hollow Products From Japan

AGENCY: Import Administration, International Trade Administration, Department of Commerce.

EFFECTIVE DATE: July 12, 2000.

FOR FURTHER INFORMATION CONTACT: Constance Handley at (202) 482-0631 or Charles Riggle at (202) 482-0650, Import Administration, Room 1870, International Trade Administration, U.S. Department of Commerce, 14th Street and Constitution Avenue, NW., Washington, DC 20230.

The Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce (the Department) regulations refer to the regulations codified at 19 CFR part 351 (April 1999).

Final Determination

We determine that circular seamless stainless steel hollow products from Japan are being sold in the United States at less than fair value (LTFV), as provided in section 735 of the Act. The estimated margins are shown in the Suspension of Liquidation section of this notice.

Case History

The preliminary determination in this investigation was issued on April 21, 2000. See Notice of Preliminary Determination of Sales at Less Than Fair Value: Circular Seamless Stainless Steel Hollow Products from Japan, 65 FR 25305 (May, 1, 2000) (Preliminary Determination). On May 31, 2000, case briefs were filed by Plymouth Tube Company (Plymouth Tube) and the petitioners.¹ Sumitomo Metal Industries, Ltd. (SMI) and the petitioners submitted rebuttal briefs on June 5, 2000. A hearing was held on June 26, 2000.

¹ The petitioners include Altx, Inc., American Extruded Products, PMAC Ltd, DMV Stainless USA, Inc., Salem Tube Inc., Sandvik Steel Co., International Extruded Products LLC, Pennsylvania Extruded Company (Pexco) and the United Steel Workers of America, AFL-CIO/CLC.

On May 31, 2000, SMI, Kawasaki Steel Corporation (Kawasaki) and Mitsui Tubular Products Inc., requested that the Department issue to the Customs Service a clarification which would allow certain shipments of proprietary grade oil country tubular goods (OCTG), which have been excluded from the scope of the investigation, to enter without suspension of liquidation.

Analysis of Comments Received

All issues raised in the case and rebuttal briefs by parties to this investigation are addressed in the “Issues and Decision Memorandum” (Decision Memorandum) from Holly A. Kuga, Acting Deputy Assistant Secretary, Group II, Import Administration, to Troy H. Cribb, Acting Assistant Secretary for Import Administration, dated July 5, 2000, which is hereby adopted by this notice.

A list of the issues which parties have raised and to which we have responded, all of which are in the Decision Memorandum, is attached to this notice as an Appendix. Parties can find a complete discussion of all issues raised in this investigation and the corresponding recommendations in this public memorandum, which is on file in the Central Records Unit, room B-099 of the main Department building.

In addition, a complete version of the Decision Memorandum can be accessed directly on the World Wide Web at http://ia.ita.doc.gov. The paper copy and electronic version of the Decision Memorandum are identical in content.

Scope of Investigation

The scope of the investigation has been amended since the preliminary determination. For a description of the scope of this investigation, see the “Scope of Investigation” section, as well as item 2 in the “Discussion of the Issues” section, of the Decision Memorandum, which is on file in B-099 and available on the Web at http://ia.ita.doc.gov.

Period of Investigation

The period of investigation (POI) is October 1, 1998, through September 30, 1999.

Facts Available

In the preliminary determination, the Department based the dumping margins for the mandatory respondents, SMI and Sanyo Special Tube (Sanyo), on facts otherwise available pursuant to section 776(a)(2)(A) of the Act. For the final determination, the use of facts otherwise available continues to be necessary because the record does not contain company-specific information. Sanyo failed to respond to the Department's questionnaire, nor did it provide any indication that it was unable to do so. SMI responded to the Department's questionnaire, but failed to respond to all of the supplemental questionnaires and subsequently withdrew all of its questionnaire responses from the record. See Memorandum from Constance Handley to the File, re: Return of Sumitomo Metal Industries Questionnaire Responses, dated May 12, 2000. Therefore, the Department found that both Sanyo and SMI failed to cooperate by not acting to the best of their ability. As a result, pursuant to section 776(b) of the Act, the Department used an adverse inference in selecting from the facts available. Specifically, the Department assigned to the mandatory respondents the highest margin alleged in the petition. We continue to find this margin corroborated, pursuant to section 776(c) of the Act, for the reasons discussed in the Preliminary Determination. No interested parties have objected to the use of adverse facts available for the mandatory respondents in this investigation, nor to the Department's choice of facts available. In addition, the Department has left the “All Others Rate” unchanged from the preliminary determination.

Continuation of Suspension of Liquidation

In accordance with section 735(c)(1)(B) of the Act, we are directing the Customs Service to continue to suspend all entries of circular seamless stainless steel hollow products from Japan, that are entered, or withdrawn from warehouse, for consumption on or after May 1, 2000, the date of publication of our preliminary determination. The Customs Service shall require a cash deposit or bond equal to the dumping margin, as indicated in the chart below. These instructions suspending liquidation will remain in effect until further notice.

Manufacturer/exporter | Margin (percent)
Sanyo Special Tube | 156.81
Sumitomo Metal Industries | 156.81
All Others | 62.14

ITC Notification

In accordance with section 735(d) of the Act, we have notified the International Trade Commission (ITC) of our determination. As our final determination is affirmative, the ITC will, within 45 days, determine whether these imports are materially injuring, or threaten material injury to, the U.S. industry. If the ITC determines that material injury or threat of material injury does not exist, the proceeding will be terminated and all securities posted will be refunded or canceled. If the ITC determines that such injury does exist, the Department will issue an antidumping duty order directing the Customs Service to assess antidumping duties on all imports of the subject merchandise entered, or withdrawn from warehouse, for consumption on or after the effective date of the suspension of liquidation.

This determination is issued and published pursuant to sections 735(d) and 777(i)(1) of the Act.

Dated: July 5, 2000.
Troy H. Cribb,
Acting Assistant Secretary for Import Administration.

Appendix I—Issues in Decision Memo

Comments and Responses

1. Ultra-high purity 316L Redraw Hollows

2. Scope Exclusion

[FR Doc. 00-17645 Filed 7-11-00; 8:45 am]

BILLING CODE 3510-DS-P